SMALL BUSINESS ADMINISTRATION

Region IV North Florida District Advisory Council; Public Meeting

The U.S. Small Business Administration North Florida District Advisory Council located in Jacksonville, Florida, will host a public meeting at 12 p.m. EST on September 2, 2004, in Committee Room A of the Jacksonville City Hall Chambers located at 117 West Duval Street, Jacksonville, FL 32202, to discuss such matters that may be presented by members and staff of the U.S. Small Business Administration, or others present. Anyone wishing to make an oral presentation to the Board must contact Wilfredo J. Gonzalez, District Director, in writing by letter or fax no later than August 18, 2004, in order to be put on the agenda. Wilfredo J. Gonzalez, District Director, U.S. Small Business Administration, 7825 Baymeadows Way; Suite 100B, Jacksonville, FL 32256. Telephone (904) 443-1900 or FAX (202) 481-4188.

Matthew K. Becker,
Committee Management Officer.

[FR Doc. 04-19199 Filed 8-20-04; 8:45 am]

BILLING CODE 8025-01-P